INTERNATIONAL TRADE COMMISSION

[USITC SE-07-013]

Government in the Sunshine Act Meeting Notice

Agency Holding the Meeting: United States International Trade Commission.

Time and Date: July 20, 2007 at 2:30 p.m.

Place: Room 101, 500 E Street, SW., Washington, DC 20436, Telephone: (202) 205-2000.

Status: Open to the public

Matters To Be Considered: 1. Agenda for future meetings: none.

2. Minutes.

3. Ratification List.

4. Inv. Nos. 731-TA-1114-1115 (Preliminary) (Certain Steel Nails from China and the United Arab Emirates)—briefing and vote. (The Commission is currently scheduled to transmit its determination and Commissioners' opinions to the Secretary of Commerce on or before July 30, 2007.)

5. Inv. Nos. 701-TA-447 and 731-TA-1116 (Preliminary) (Circular Welded Carbon-Quality Steel Pipe from China)—briefing and vote. (The Commission is currently scheduled to transmit its determination to the Secretary of Commerce on July 23, 2007; Commissioners' opinions are currently scheduled to be transmitted to the Secretary of Commerce on or before July 30, 2007.)

6. Outstanding action jackets: none.

In accordance with Commission policy, subject matter listed above, not disposed of at the scheduled meeting, may be carried over to the agenda of the following meeting.

By order of the Commission.
Issued: July 3, 2007.
William R. Bishop,
Hearings and Meetings Coordinator.

[FR Doc. E7-13228 Filed 7-6-07; 8:45 am]

BILLING CODE 7020-02-P